DEPARTMENT OF EDUCATION

National Committee on Foreign Medical Education and Accreditation

AGENCY: Office of Postsecondary Education, U.S. Department of Education, National Committee on Foreign Medical Education and Accreditation.

ACTION: The purpose of this notice is to announce the upcoming meeting of the National Committee on Foreign Medical Education and Accreditation (NCFMEA). Parts of this meeting will be open to the public, and the public is invited to attend those portions.

Meeting Date and Place: The public meeting will be held on Monday, April 15, 2013, and Tuesday, April 16 2013, from 8:00 a.m. until approximately 5:30 p.m., at the U.S. Department of Education, Eighth Floor Conference Center, Office of Postsecondary Education, 1990 K Street NW., Washington, DC 20006.

Function: The NCFMEA was established by the Secretary of Education under Section 102 of the Higher Education Act of 1965, as amended. The NCFMEA's responsibilities are to:

• Upon request of a foreign country, evaluate the standards of accreditation applied to medical schools in that country; and,

• Determine the comparability of those standards to standards for accreditation applied to United States medical schools.

Comparability of the applicable accreditation standards is an eligibility requirement for foreign medical schools to participate in the William D. Ford Federal Direct Student Loan Program, 20 U.S.C. 1087a et seq.

Meeting Agenda: The NCFMEA will review the standards of accreditation applied to medical schools by several foreign countries to determine whether those standards are comparable to the standards of accreditation applied to medical schools in the United States and/or reports previously requested of countries by the NCFMEA. Discussion of the standards of accreditation will be held in sessions open to the public. Discussions resulting in specific determinations of comparability are closed to the public in order that each country may be properly notified by the Department of the Committee's decision.

Because the October 30, 2012 NCFMEA meeting was cancelled due to the forecast of severe and disruptive weather (Hurricane Sandy), the countries which were scheduled to be discussed at that meeting will now be reviewed at the April 15-16, 2013 meeting. They are Australia/New Zealand, Dominican Republic, Ireland, Israel, Mexico, Pakistan, Saba, Slovak Republic, Taiwan, and the United Kingdom. The meeting agenda, as well as the staff analyses pertaining to the meeting will be posted on the Department of Education's web site prior to the meeting at http://www2.ed.gov/about/bdscomm/list/ncfmea.html.

Reasonable Accommodations: The meeting site is accessible to individuals with disabilities. If you will need an auxiliary aid or service to participate in the meeting (e.g., interpreting service, assistive listening device, or materials in an alternate format), notify the contact person listed in this notice by April 5, 2013, although we will attempt to meet a request received after that date.

FOR FURTHER INFORMATION CONTACT: Carol Griffiths, Executive Director for the NCFMEA, U.S. Department of Education, 1990 K Street, NW., Room 8073, Washington, DC 20006-8129, telephone: 202 219-7035; fax: 202 502-7874, or email: Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

David A. Bergeron,
Acting Assistant Secretary for Postsecondary Education.

[FR Doc. 2013-03167 Filed 2-11-13; 8:45 am]

BILLING CODE 4000-01-P